DEPARTMENT OF LABOR

Employment and Training Administration

[TA-W-36,647 and 647D]

Cluett, Peabody and Company, Inc. the Enterprise Plant, Enterprise, AL and Cluett, Peabody and Company, Inc., Corporate Office and Administration, Smyrna, GA; Amended Certification Regarding Eligibility To Apply for Worker Adjustment Assistance

In accordance with Section 223 of the Trade Act of 1974 (19 USC 2273) the Department of Labor issued a Certification of Eligibility to Apply for Worker Adjustment Assistance on September 16, 1999, applicable to workers of Cluett, Peabody and Company, Inc., The Enterprise Plant, Enterprise, Alabama. The notice was published in the Federal Register on October 14, 1999 (64 FR 55750).

At the request of the company, the Department reviewed the certification for workers of the subject firm. The workers are engaged in the production of men's shirts. New information shows that worker separations will occur at the Corporate Office and Administration, Smyrna, Georgia location of Cluett, Peabody and Company, Inc. The workers provide administration and support function services for the subject firm's production facilities located in Alabama and Georgia.

Accordingly, the Department is amending the certification to cover workers of Cluett, Peabody and Company, Inc., Corporate Office and Administration, Smyrna, Georgia.

The Intent of the Department's certification is to include all workers of Cluett, Peabody and Company, Inc. adversely affected by increased imports of men's shirts.

The amended notice applicable to TA-W-36,647 is hereby issued as follows:

All workers of Cluett, Peabody and Company, Inc., The Enterprise Plant, Enterprise, Alabama (TA-W-36,647) and Corporate Office and Administration, Smyrna, Georgia (TA-W-36,647D) who became totally or partially separated from employment on or after August 10, 1998 through September 16, 2001 are eligible to apply for adjustment assistance under Section 223 of the Trade Act of 1974.

Signed at Washington D.C. this 30th day of June, 2000.
Edward A. Tomchick,
Director, Division of Trade Adjustment Assistance.

[FR Doc. 00-18360 Filed 7-19-00; 8:45 am]

BILLING CODE 4510-30-M